SMALL BUSINESS ADMINISTRATION

Data Collection Available for Public Comments and Recommendations

ACTION: Notice and request for comments.

SUMMARY: In accordance with the Paperwork Reduction Act of 1995, this notice announces the Small Business Administration's intentions to request approval on a new, and/or currently approved information collection.

DATES: Submit comments on or before February 7, 2003.

ADDRESSES: Send all comments regarding whether this information collection is necessary for the proper performance of the function of the agency, whether the burden estimates are accurate, and if there are ways to minimize the estimated burden and enhance the quality of the collection, to James O'Connor, Director, Office of Entrepreneurial Development, Small Business Administration, 409 3rd Street, SW., Suite 6200, Washington DC 20416.

FOR FURTHER INFORMATION CONTACT: James O'Connor, Director, (202) 205-6929 or Curtis B. Rich, Management Analyst, (202) 205-7030.

SUPPLEMENTARY INFORMATION: Title: Entrepreneurial Development Management Information System (EDMIS).

Form Nos: 641, 641a.

Description of Respondents: SBA Resource Partners.

Annual Responses: 1,200,000.

Annual Burden: 60,000.

Title: Business Information Center Customer Satisfaction Survey.

Form No: 1916.

Description of Respondents: New established and prospective Small Business Owners Using the services and programs offered by the Business Information Center Program.

Annual Responses: 22,500.

Annual Burden: 1,867.

ADDRESSES: Send all comments regarding whether this information collection is necessary for the proper performance of the function of the agency, whether the burden estimates are accurate, and if there are ways to minimize the estimated burden and enhance the quality of the collection, to Cynthia Pitts, Program Analyst, Office of Disaster Assistance, Small Business Administration, 409 3rd Street, SW., Suite 6050, Washington DC 20416.

FOR FURTHER INFORMATION CONTACT: Cynthia Pitts, Program Analyst, (202) 205-7570 or Curtis B. Rich, Management Analyst, (202) 205-7030.

SUPPLEMENTARY INFORMATION: Title: Disaster Home Loan Application.

Form Nos: 5C, 739.

Description of Respondents: Applicant's Requesting SBA Disaster Home Loan.

Annual Responses: 53,975.

Annual Burden: 80,963.

ADDRESSES: Send all comments regarding whether this information collection is necessary for the proper performance of the function of the agency, whether the burden estimates are accurate, and if there are ways to minimize the estimated burden and enhance the quality of the collection, to Pam Swilling, Program Review Analyst, Office of Surety Guarantees, Small Business Administration, 409 3rd Street, SW., Suite 8600, Washington DC 20416.

FOR FURTHER INFORMATION CONTACT: Pam Swilling, Program Review Analyst, (202) 205-6546 or Curtis B. Rich, Management Analyst, (202) 205-7030.

SUPPLEMENTARY INFORMATION: Title: Surety Bond Guarantee Assistance.

Form Nos: 990, 991, 994, 994B, 994C, 994F and 994H.

Description of Respondents: Small Business Contractors Applying for the Surety Bond Guarantee Program.

Annual Responses: 195.930.

Annual Burden: 53,375.

ADDRESSES: Send all comments regarding whether this information collection is necessary for the proper performance of the function of the agency, whether the burden estimates are accurate, and if there are ways to minimize the estimated burden and enhance the quality of the collection, to Linda Roberts, Director, Office of Security Operations, Small Business Administration, 409 3rd Street, SW., Suite 5600, Washington DC 20416.

FOR FURTHER INFORMATION CONTACT: Linda Roberts, Director, (202) 205-6223 or Curtis B. Rich, Management Analyst, (202) 205-7030.

SUPPLEMENTARY INFORMATION: Title: Statement of Personal History.

Form No: 912.

Description of Respondents: Applicant's for Assistance or Temporary Employment in Disaster.

Annual Responses: 55,000.

Annual Burden: 13,750.

ADDRESSES: Send all comments regarding whether this information collection is necessary for the proper performance of the function of the agency, whether the burden estimates are accurate, and if there are ways to minimize the estimated burden and enhance the quality of the collection, to Joan Bready, Business Development Specialist, Office of Small Business Development Centers, Small Business Administration, 409 3rd Street, SW., Suite 4600, Washington DC 20416

FOR FURTHER INFORMATION CONTACT: Joan Bready, Business Development Specialist, (202) 205-7384 or Curtis B. Rich, Management Analyst, (202) 205-7030.

SUPPLEMENTARY INFORMATION: Title: SBDC Program and Financial Reports.

Form Nos: SF-269, SF-270.

Description of Respondents: SBDC Directors.

Annual Responses: 114.

Annual Burden: 7,524.

Jacqueline White,
Chief, Administrative Information Branch.

[FR Doc. 02-31046 Filed 12-6-02; 8:45 am]

BILLING CODE 8025-01-P